DEPARTMENT OF JUSTICE

[Docket No. ODAG 157]

Notice of Public Comment Period on Revised; Federal Advisory Committee Work Products

AGENCY: Department of Justice.

ACTION: Notice.

SUMMARY: This notice announces the opening of the comment period on revised subcommittee draft work products of the National Commission on Forensic Science.

DATES: Written public comment regarding revised subcommittee draft work products of the National Commission on Forensic Science meeting materials should be submitted through www.regulations.gov before February 26, 2016.

FOR FURTHER INFORMATION CONTACT: Andrew J. Bruck, Senior Counsel to the Deputy Attorney General and Designated Federal Official, 950 Pennsylvania Avenue NW., Washington, DC 20530, phone (202) 305-3481.

SUPPLEMENTARY INFORMATION: On November 10, 2015, the Department of Justice published in the Federal Register a Notice announcing the December 7-8, 2015, Federal Advisory Committee Meeting of the National Commission on Forensic Science (80 FR 69698). During the Commission proceedings on December 7-8, 2015, subcommittees were provided an opportunity to revise existing draft work products. This Notice announces a public comment period to provide an opportunity for submitting comments for the revised work products.

Pursuant to section 10(a)(3) of the FACA and 41 CFR 102-3.105(j) and 102-3.140, the public or interested organizations may submit written comments to the Commission in response to the revised draft work products. Work products are available on the Commission's Web site: http://www.justice.gov/ncfs/work-products and on www.regulations.gov.

Dated: January 21, 2016.
Andrew J. Bruck,
Designated Federal Official, National Commission on Forensic Science.

[FR Doc. 2016-01656 Filed 1-26-16; 8:45 am]

BILLING CODE 4410-18-P